NUCLEAR REGULATORY COMMISSION

[Docket Nos. 50-325 and 50-324]

Carolina Power & Light Company; Brunswick Steam Electric Plant, Units 1 and 2; Exemption

1.0 Background

The Carolina Power & Light Company (CP&L, the licensee) is the holder of Facility Operating License Nos. DPR-71 and DPR-62, which authorize operation of the Brunswick Steam Electric Plant, Units 1 and 2 (BSEP). The licenses provide, among other things, that the facility is subject to all rules, regulations, and orders of the U.S. Nuclear Regulatory Commission (NRC, the Commission) now or hereafter in effect.

The facility consists of two boiling-water reactors located in Brunswick County in North Carolina.

2.0 Request/Action

Title 10 of the Code of Federal Regulations (10 CFR), part 50, appendix G, requires that pressure-temperature (P-T) limit curves for BSEP be developed in accordance with the methods invoked by Appendix G to Section XI of the ASME Code.

In summary, by letter dated May 1, 2001, the licensee submitted a request to use an exemption method that would allow CP&L to deviate from complying with the requirements in 10 CFR part 50, appendix G, for generating the P-T limit curves for BSEP.

3.0 Discussion

Pursuant to 10 CFR 50.12, the Commission may, upon application by any interested person or upon its own initiative, grant exemptions from the requirements of 10 CFR part 50 when (1) the exemptions are authorized by law, will not present an undue risk to public health or safety, and are consistent with the common defense and security; and (2) when special circumstances are present. These circumstances include the special circumstances that 10 CFR 50.60 requires that all light-water nuclear power reactors must meet the fracture toughness requirements of appendix G of 10 CFR 50. 10 CFR part 50, appendix G requires P-T limit curves to be at least as conservative as limits obtained by following the methods of analysis and the margins of safety of Appendix G of Section XI of the ASME Code. Requests for exemptions to the requirements of 10 CFR part 50, appendices G and H, may be submitted pursuant to 10 CFR 50.60(b), which allows licensees to use alternatives to the respective fracture toughness and reactor vessel material surveillance program requirements of the appendices, if an exemption to use the alternatives is granted by the Commission pursuant to 10 CFR 50.12. According to 10 CFR 50.12(a)(1), the Commission may grant exemptions to the requirements of 10 CFR part 50 if the exemptions are authorized by law, and will not present an undue risk to the public health and safety, and are consistent with the common defense and security.

Based upon a consideration of the licensee's information and the NRC's Safety Evaluation, the staff concludes that granting an exemption under the requirements of 10 CFR 50.12(a)(1) is appropriate.

The Safety Evaluation may be examined, and/or copied for a fee, at the NRC's Public Document Room, located at One White Flint North, 11555 Rockville Pike (first floor), Rockville, Maryland. Publicly available records will be accessible electronically from the ADAMS Public Library component on the NRC Web site, http://www.nrc.gov (the Public Electronic Reading Room).

4.0 Conclusion

Accordingly, the Commission has determined that, pursuant to 10 CFR 50.12(a), the exemption is authorized by law, will not endanger life or property or common defense and security, and is, otherwise, in the public interest. Also, special circumstances are present. Therefore, the Commission hereby grants CP&L an exemption from the requirements of 10 CFR 50, appendix G, for generating the P-T limit curves for BSEP.

Pursuant to 10 CFR 51.32, the Commission has determined that the granting of this exemption will not have a significant effect on the quality of the human environment (66 FR 50458).

This exemption is effective upon issuance.

Dated at Rockville, Maryland, this 3rd day of October 2001.
For the Nuclear Regulatory Commission.
John A. Zwolinski,
Director, Division of Licensing Project Management, Office of Nuclear Reactor Regulation.

[FR Doc. 01-25418 Filed 10-9-01; 8:45 am]

BILLING CODE 7590-01-P